NUCLEAR REGULATORY COMMISSION

[NRC-2020-0271]

Order to ConverDyn Suspending Exports of Certain Source Material

AGENCY: Nuclear Regulatory Commission.

ACTION: Order; issuance.

SUMMARY: The U.S. Nuclear Regulatory Commission (NRC) is issuing an order to ConverDyn suspending its authority to export certain source material to the United Kingdom (U.K.). This suspension is required due to the U.K.'s exit from the European Atomic Energy Community (EURATOM). Exports of EURATOM-obligated and Canadian-obligated source material to the U.K. are currently not authorized.

DATES: This Order is effective on January 1, 2021.

ADDRESSES: Please refer to Docket ID NRC-2020-0271 when contacting the NRC about the availability of information regarding this document. You may obtain publicly available information related to this document using any of the following methods:

• Federal Rulemaking Website: Go to https://www.regulations.gov and search for Docket ID NRC-2020-0271. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine, and order copies of public documents is currently closed. You may submit your request to the PDR via email at pdr.resource@nrc.gov or call 1-800-397-4209 between 8:00 a.m. and 4:00 p.m. (EST), Monday through Friday, except Federal holidays.

FOR FURTHER INFORMATION CONTACT: Lauren Mayros, Office of International Programs, U.S. Nuclear Regulatory Commission, Washington, DC 20555-0001; telephone: 301-287-9088, email: Lauren.Mayros@nrc.gov.

SUPPLEMENTARY INFORMATION: The United States engages in significant nuclear cooperation with other nations, including the authorized distribution of source material, pursuant to the terms of an Agreement for Cooperation in Peaceful Uses of Nuclear Energy (123 Agreement). ConverDyn currently holds two specific licenses, XSOU8846/01 and XSOU8789/07, authorizing the export of source material to several countries including the U.K. ConverDyn's export licenses were issued under the legal framework of the 123 Agreement between the U.S. and EURATOM.

On December 31, 2020, the U.K. will exit from EURATOM, and on January 1, 2021, a 123 Agreement between the U.S. and the U.K. will enter into force. The U.S. Government has already made arrangements with the Government of the U.K. for this transition to occur on January 1, 2021 for all NRC-licensed exports to the U.K. However, beginning on January 1, 2021, the NRC is currently unable to authorize the export of EURATOM-obligated and Canadian-obligated material from the U.S. to the U.K., until pre-approval to retransfer such material to the U.K. is received from EURATOM or the Canadian government, respectively.

This suspension is required as an operation of law and only applies to exports of EURATOM-obligated or Canadian-obligated source material to the U.K. The NRC is reproducing the text of the order as an attachment to this Federal Register notice.

Dated: December 17, 2020.
For the Nuclear Regulatory Commission.
Nader L. Mamish,
Director, Office of Internal Programs.

Attachment—Order Suspending Export Licenses

Order Modifying Licenses To Suspend Certain Exports to the United Kingdom

(Effective January 1, 2021)

I

ConverDyn (or “the licensee”) holds specific licenses XSOU8846/01 and XSOU8789/07 issued by the U.S. Nuclear Regulatory Commission (NRC) pursuant to Sections 62 and 127 of the Atomic Energy Act of 1954, as amended (AEA) and 10 CFR part 110. These specific licenses authorize the export of source material to France, Germany, the Netherlands, and the United Kingdom (U.K.) under the terms of an Agreement for Cooperation in Peaceful Uses of Nuclear Energy (123 Agreement) between the United States (U.S.) and the European Atomic Energy Community (EURATOM).

II

On December 31, 2020, the formal transition period marking the United Kingdom's (U.K.) exit from the European Union (EU) will end. On this date, the U.K. will also exit from EURATOM. On January 1, 2021, the U.S./U.K.123 Agreement will enter into force. At that time, ConverDyn's export licenses, XSOU8846/01 and XSOU8789/07 will authorize exports to France, Germany, and the Netherlands under the legal framework of the U.S./EURATOM 123 agreement and will authorize exports to the U.K. under the legal framework of the U.S./U.K. 123 Agreement. After the U.K. exits EURATOM, the NRC is prohibited from authorizing any exports of EURATOM-obligated material from the U.S. to the U.K. until EURATOM, pursuant to the U.S./EURATOM 123 agreement, provides its pre-approval to retransfer EURATOM-obligated material from the U.S. to the U.K. The NRC is likewise prohibited from authorizing any exports of Canadian-obligated material from the U.S. to the U.K. until the Government of Canada, pursuant to the U.S./Canada 123 Agreement, provides its pre-approval to retransfer Canadian-obligated material to the U.K.

The U.S. Government has already made arrangements with the Government of the U.K. for the transition from the U.S./EURATOM 123 Agreement to the U.S./U.K. 123 Agreement to automatically occur on January 1, 2021, for all NRC-approved export licenses to the U.K. However, the U.S. Government cannot authorize the export of EURATOM-obligated or Canadian-obligated material from the U.S. to the U.K. without prior approval for retransfer from EURATOM or the Canadian government, respectively. Therefore, beginning on January 1, 2021, ConverDyn will no longer be authorized to export EURATOM-obligated and Canadian-obligated material to the U.K. under licenses XSOU8846/01 and XSOU8789/07 until such prior approval is received.

III

Accordingly, pursuant to Sections 62, 64, 123, 127, 161b, 161i, 183, and 186 of the AEA, and 10 CFR 110.50(a)(1) and (2) and 110.52, IT IS HEREBY ORDERED, EFFECTIVE January 1, 2021, THAT LICENSES XSOU8846/01 AND XSOU8789/07 ARE MODIFIED AS FOLLOWS:

A. The licensee's authorization to export EURATOM-obligated material to the U.K. is suspended, and such exports are prohibited, until the licensee receives notice from the NRC that the United States Government has obtained EURATOM's pre-approval, pursuant to the U.S./EURATOM 123 Agreement, to retransfer EURATOM-obligated material to the U.K. When the licensee receives such notice from the NRC, this provision of the Order will expire without any further action by the NRC.

B. The licensee's authorization to export Canadian-obligated material to the U.K. is suspended, and such exports are prohibited, until the licensee receives notice from the NRC that the United States Government has obtained Canada's approval, pursuant to the U.S./Canada 123 Agreement, to retransfer Canadian-obligated material to the U.K. When the licensee receives such notice from the NRC, this provision of the Order will expire without any further action by the NRC.

The NRC finds that this action is required by operation of law and the common defense and security of the United States. Therefore, in accordance with 10 CFR 110.52(c), the licensee need not be afforded an opportunity to reply and be heard prior to issuance of this Order.

For the Nuclear Regulatory Commission

Nader L. Mamish,

Director, Office of International Programs.

Dated at Rockville, Maryland this 16th day of December 2020.

[FR Doc. 2020-28160 Filed 12-21-20; 8:45 am]

BILLING CODE 7590-01-P